DEPARTMENT OF DEFENSE

Department of the Army; Corps of Engineers

Intent To Prepare a Draft Environmental Impact Statement for Restoring the Integrity of the Amite River and Restoring Various Natural Functions That Have Been Degraded or Lost as a Result of Human-Induced Factors, in All or Portions of Ascension, East Baton Rouge, East Feliciana, Livingston, St. Helena, and St. John Parishes, in Southeastern Louisiana

AGENCY: Department of the Army, U.S. Army Corps of Engineers, DoD.

ACTION: Notice of intent.

SUMMARY: The U.S. Army Corps of Engineers, New Orleans District, is initiating this study under the authority of the Committee on Transportation and Infrastructure of the United States House of Representatives resolution, adopted July 23, 1998, which reads as follows:

“Resolved by the Committee on Transportation and Infrastructure of the United States House of Representatives Resolution, that the Secretary of the Army is requested to review the report of the Chief of Engineers on the Amite River and Tributaries, Louisiana, published as House Document 419, 84th Congress, 2nd Session, and other pertinent reports, with a view to determining whether modifications of the recommendations contained therein are advisable at the present time in the interest of environmental restoration and protection, water quality, and sediment control, recreation, and the avoidance or minimization of undesirable impacts resulting from urbanization and other present and future watershed activities.”

The study will determine the feasibility of reducing turbidity, lowering temperatures, and reducing the extent of the physical changes within the Amite River corridor in an effort to achieve fish and wildlife restoration and provide outdoor public recreation opportunities. This effort will significantly contribute to the watershed management objectives of the state of Louisiana.

The study area includes the Amite River drainage basin in southeastern Louisiana, in Ascension, East Baton Rouge, East Feliciana, Livingston, St. Helena, and St. John Parishes. The Amite River and its tributaries flow southward from the state of Mississippi through the western “Florida” parishes of southeast Louisiana into Lake Maurepas, an oligohaline lake that drains into Lake Pontchartrain. The Amite River is used for recreation, propagation of fish and wildlife, and to a lesser extent, for water supply, navigation, and waste disposal. The Amite River has a large drainage area and an average flow of about 2,000 cubic feet per second (CFS) at Denham Springs. A section of the Amite River in East Feliciana Parish, from the Louisiana/Mississippi state line to Louisiana Highway 37 (LA 37) is included in Louisiana's Natural and Scenic Rivers System. The major urban areas in this watershed are Baton Rouge, Denham Springs, and Gonzales, which are situated along the lower third of the river.

FOR FURTHER INFORMATION CONTACT: Questions concerning the Environmental Impact Statement (EIS) should be addressed to Ms. Bonnie S. Obiol at U.S. Army Corps of Engineers, PM-RS, P.O. Box 60267, New Orleans, LA 70160-0267, phone (504) 862-2280, fax number (504) 862-2088 or by E-mail at bonnie.s.obiol@mvn02.usace.army.mil.

SUPPLEMENTARY INFORMATION: 1. Proposed Action. An ecological restoration project will be designed to maximize environmental benefits within the study area. The proposed action includes all or portions of several alternatives, identified below, that would improve the ecosystem and possibly reduce storm water flood stages as an ancillary benefit. Design features will be fully evaluated with respect to the latest engineering, economic, and environmental regulations for acceptability under current Federal laws and regulations. The results of the feasibility study will determine the preferred alternative.

2. Alternatives. The Amite River and Tributaries Ecosystem Restoration reconnaissance study considered several alternative plans for restoring the ecosystem in the study area. Four plans were determined to be economically justified and environmentally acceptable. The plans include: (1) Re-contouring and re-vegetating sterile and unstable abandoned tailing piles and un-vegetated abandoned mined areas in the immediate vicinity of the stream corridor, (2) as an increment to Alternative 1, including an additional 4,500 to 6,000 acres not immediately adjacent to the river by re-contouring and re-vegetating a total area of approximately 6,000 to 7,500 acres, (3) re-meandering abandoned bendways and loops of the Amite River in appropriate areas to recreate some of the historical meander loops or create new loops that would serve the same purpose, and (4) investigate recommendations of Best Management Practices (BMPs) for the sand and gravel industry, as well as other affected industries and urban areas in the study area for more stewardship for future habitat areas. The objective of the enactment of the BMPs would be to protect the restoration efforts undertaken by this project and other restorative measures by others and prevent reoccurrence of the degradation.

3. Scoping. Scoping is the process for determining the scope of alternatives and significant issues to be addressed in the EIS. For this analysis, a letter will be sent to all parties believed to have an interest in the analysis, requesting their input on alternatives and issues to be evaluated. The letter will also notify interested parties of public scoping meetings that will be held in the local area. Notices will also be sent to local news media. All interested parties are invited to comment at this time, and anyone interested in this study should request to be included in the study mailing list.

A public scoping meeting will be held in the spring of 2007. The meeting will be held in the vicinity of Baton Rouge, LA. Additional meetings could be held, depending upon interest and if it is determined that further public coordination is warranted.

4. Significant Issues. The tentative list of resources and issues to be evaluated in the EIS includes wetlands (marshes and swamps), aquatic resources, commercial and recreational fisheries, wildlife resources, essential fish habitat, water quality, air quality, threatened and endangered species, recreation and aesthetic resources, and cultural resources. Socioeconomic items to be evaluated in the EIS include navigation, flood protection, business and industrial activity, employment, land use, property values, public/community facilities and services, tax revenues, population, community and regional growth, transportation, housing, community cohesion, and noise.

5. Environmental Consultation and Review. The U.S. Fish and Wildlife Service (USFWS) will be assisting in the documentation of existing conditions and assessment of effects of project alternatives through Fish and Wildlife Coordination Act consultation procedures. The USFWS will provide a Fish and Wildlife Coordination Act report. Consultation will be accomplished with the USFWS and the National marine Fisheries Service (NMFS) concerning threatened and endangered species and their critical habitat. The NMFS will be consulted on the effects of this proposed action on Essential Fish Habitat. The draft EIS (DEIS) or a notice of its availability will be distributed to all interested agencies, organizations, and individuals.

6. Estimated Date of Availability. Funding levels will dictate the date when the DEIS is available. The earliest that the DEIS is expected to be available is in the summer of 2009.

Brenda S. Bowen,
Army Federal Register Liaison Officer.

[FR Doc. 07-719 Filed 2-15-07; 8:45 am]

BILLING CODE 3810-84-M